DEPARTMENT OF ENERGY

Federal Energy Regulatory Commission

[Project No. 14165-000]

Riverbank Hydro No. 11 LLC; Notice of Preliminary Permit Application Accepted for Filing and Soliciting Comments, Motions To Intervene, and Competing Applications

On May 2, 2011, Riverbank Hydro No. 11 LLC (Riverbank) filed an application for a preliminary permit, pursuant to section 4(f) of the Federal Power Act (FPA), proposing to study the feasibility of a hydropower project at the U.S. Army Corps of Engineers' (Corps) Nolin River Dam, located on the Nolin River, in Edmonson County, Kentucky. The sole purpose of a preliminary permit, if issued, is to grant the permit holder priority to file a license application during the permit term. A preliminary permit does not authorize the permit holder to perform any land-disturbing activities or otherwise enter upon lands or waters owned by others without the owners' express permission.

The proposed project would consist of: (1) A bifurcation from the existing outlet structure; (2) a 10-foot-diameter, 140-foot-long penstock; (3) a powerhouse containing one generating unit with a total capacity of 8.0 megawatts (MW); (4) a tailrace structure; and (5) an 3.1-mile-long, 25 kilovolt (kV) transmission line. The project would have an estimated average annual generation of 24.5 gigawatt-hours (GWh), and operate run-of-river utilizing surplus water from the Kentucky River Lock & Dam No. 3, as directed by the Corps.

Applicant Contact: Mr. Kuo-Bao Tong, Riverbank Power Corporation, Royal Bank Plaza, South Tower, P.O. Box 166, 200 Bay Street, Suite 3230, Toronto, ON, Canada M5J2J4. (416) 861-0092 x 154.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14165-000) in the docket number field to access the document. For assistance, contact FERC Online Support.

Dated: October 25, 2011.
Kimberly D. Bose,
Secretary.

[FR Doc. 2011-28103 Filed 10-28-11; 8:45 am]

BILLING CODE 6717-01-P